SMALL BUSINESS ADMINISTRATION

[Declaration of Disaster #3568]

State of South Carolina

Orangeburg County and the contiguous counties of Aiken, Bamberg, Barnwell, Berkeley, Calhoun, Clarendon, Colleton, Dorchester and Lexington in the State of South Carolina constitute a disaster area due to damages caused by severe ice storms that occurred on January 26-27, 2004. Applications for loans for physical damage as a result of this disaster may be filed until the close of business on May 3, 2004 and for economic injury until the close of business on December 3, 2004 at the address listed below or other locally announced locations: Small Business Administration, Disaster Area 2 Office, One Baltimore Place, Suite 300, Atlanta, GA 30308.

The interest rates are:

| Percent
For Physical Damage:
Homeowners With Credit Available Elsewhere | 6.125
Homeowners Without Credit Available Elsewhere | 3.125
Businesses With Credit Available Elsewhere | 5.800
Businesses and Non-Profit Organizations Without Credit Available Elsewhere | 2.900
Others (Including Non-Profit Organizations) With Credit Available Elsewhere | 4.875
For Economic Injury:
Businesses and Small Agricultural Cooperatives Without Credit Available Elsewhere | 2.900

The number assigned to this disaster for physical damage is 356811 and the number for economic injury is 9Z4800.

(Catalog of Federal Domestic Assistance Program Nos. 59002 and 59008)
Dated: March 3, 2004.
Hector V. Barreto,
Administrator.

[FR Doc. 04-5256 Filed 3-8-04; 8:45 am]

BILLING CODE 8025-01-P